DEPARTMENT OF HOMELAND SECURITY

Coast Guard

[Docket No. USCG-2017-1001]

Merchant Marine Personnel Advisory Committee; Vacancies

AGENCY: Coast Guard, Department of Homeland Security.

ACTION: Request for applications.

SUMMARY: The U.S. Coast Guard seeks applications for membership on the Merchant Marine Personnel Advisory Committee. This committee acts solely in an advisory capacity to the Secretary of the Department of Homeland Security through the Commandant of the U.S. Coast Guard on matters relating to personnel in the United States merchant marine, including training, qualifications, certification, documentation, and fitness standards and other matters as assigned by the Commandant; may be given special assignments by the Secretary and may conduct studies, inquiries, workshops, and fact finding in consultation with individuals and groups in the private sector and with State or local governments; shall advise, consult with, and make recommendations reflecting its independent judgment to the Secretary; and may make available to Congress recommendations that the Committee makes to the Secretary.

DATES: Completed applications should reach the Coast Guard on or before February 26, 2018.

ADDRESSES: Applicants should send a cover letter expressing interest in an appointment to the Merchant Marine Personnel Advisory Committee that also identifies which membership category the applicant is applying under, along with a resume detailing the applicant's experience via one of the following methods:

• By Email: davis.j.breyer@uscg.mil; Subject Line: The Merchant Marine Personnel Advisory Committee.

• By Fax: 202-372-8382 ATTN: Mr. Davis J. Breyer, Alternate Designated Federal Officer; or

• By Mail: Mr. Davis J. Breyer, Alternate Designated Federal Officer of the Merchant Marine Personnel Advisory Committee, 2703 Martin Luther King Jr. Ave. SE, Stop 7509, Washington, DC, 20593-7509.

FOR FURTHER INFORMATION CONTACT: Mr. Davis J. Breyer, Alternate Designated Federal Officer of the Merchant Marine Personnel Advisory Committee, 2703 Martin Luther King Jr. Ave. SE, Stop 7509, Washington, DC, 20593-7509, telephone 202-372-1445, fax 202-372-8382 or davis.j.breyer@uscg.mil.

SUPPLEMENTARY INFORMATION: The Merchant Marine Personnel Advisory Committee is a federal advisory committee which operates under the provisions of the Federal Advisory Committee Act, (Title 5 U.S.C. Appendix).

The Committee meets not less than twice each year. Its subcommittees and working groups may also meet intercessionally to consider specific tasks as required.

Each Merchant Marine Personnel Advisory Committee member serves a term of office of up to three years. Members may serve a maximum of two consecutive terms. All members serve without compensation from the Federal Government; however, upon request, they may receive travel reimbursement and per diem.

We will consider applications for the following 8 positions that will either be vacant on August 13, 2018, or are currently vacant. These positions are three year terms.

To be eligible, you must have the experience listed for the applicable membership position:

(1) Three positions for members who serve as representatives standing for the viewpoint of merchant marine deck officers. One member shall be licensed for inland or river route, with a limited or unlimited tonnage; one shall be licensed for oceans any gross tons; and one member shall be a licensed deck officer with an unlimited tonnage master's license with significant tanker experience;

(2) one position for a member who serves as a representative standing for the viewpoint of licensed merchant marine engineering officers who is licensed as a chief engineer, any horsepower;

(3) one position for a member who serves as a representative standing for the viewpoint of maritime training institutions other than state or federal academies and shall represent the viewpoint of the small vessel industry;

(4) one position for a member who will be appointed from the general public who will serve as a Special Government Employee as defined in Title 18, United States Code, section 202(a). Preference will be given to applicants who can provide relevant input regarding matters relating to personnel in the United States merchant marine, including training, qualifications, certification, documentation, and fitness standards.

(5) one position for a member who must be jointly recommended by the state academies as defined by 46 CFR 310 Subpart A, who will represent the viewpoint of the state academies in accordance with 46 U.S.C. 8108; and

(6) one position for a member who must be recommended by the federal academy as defined by 46 CFR 310 Subpart C, who will represent the viewpoint of the federal academy in accordance with 46 U.S.C. 8108.

If you are selected as a member from the general public you will be appointed and serve as a Special Government Employee as defined in section 202(a) of Title 18, U.S.C. Applicants for appointment as a Special Government Employee are required to complete a Confidential Financial Disclosure Report (OGE Form 450). The U.S. Coast Guard may not release the reports or the information in them to the public except under an order issued by a federal court or as otherwise provided under the Privacy Act (5 U.S.C. 552a). Only the Designated U.S. Coast Guard Ethics Official or his or her designee may release a Confidential Financial Disclosure Report. Applicants can obtain this form by going to the website of the Office of Government Ethics (www.oge.gov) or by contacting the individual listed above in FOR FURTHER INFORMATION CONTACT. Applications for a member drawn from the general public that are not accompanied by a completed OGE Form 450 will not be considered. All other members serve as representatives and stand for the viewpoints of the roles as identified above.

Registered lobbyists are not eligible to serve on federal advisory committees in an individual capacity. See “Revised Guidance on Appointment of Lobbyists to Federal Advisory Committees, Boards and Commissions” (79 FR 47482, August 13, 2014). The position we list for a member from the general public would be someone appointed in their individual capacity and would be designated as a Special Government Employee as defined in Section 202(a), Title 18, U.S.C. Registered lobbyists are lobbyists as defined in Title 2 U.S.C. 1602 who are required by Title 2 U.S.C. 1603 to register with the Secretary of the Senate and the Clerk of the House Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Mr. Davis J. Breyer, Alternate Federal Officer of the Merchant Marine Personnel Advisory Committee via one of the transmittal methods in the ADDRESSES section by the deadline in the DATES section of this notice. All email submittals will receive email receipt confirmation.

Dated: December 20, 2017.
Jeffrey G. Lantz,
Director of Commercial Regulations and Standards.

[FR Doc. 2017-27858 Filed 12-26-17; 8:45 am]

BILLING CODE 9110-04-P